DEPARTMENT OF AGRICULTURE

Submission for OMB Review; Comment Request

August 6, 2004.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if reviewed within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Risk Management Agency

Title: Risk Management and Crop Insurance Education; Activity Log.

OMB Control Number: 0563-NEW.

Summary of Collection: The Federal Crop Insurance Act, Title 7 U.S.C. chapter 36 section 1508(k) authorizes the Federal Crop Insurance Corporation (FCIC) to establish crop insurance education and information programs in States that have been historically underserved by Federal Crop insurance program (7 U.S.C. 1524(a)(2)); and provide agricultural producers with training opportunities in risk management. The Commodity Partnerships and Targeted States programs are two programs available to carry out certain risk management education provisions of the Federal Crop Insurance Act.

Need and Use of the Information: The Risk Management Agency (RMA) will use Form RME-3, Activity Log, to collect information and monitor certain educational activities. Agreement holders are required to record specific information about each educational activity conducted under the agreement in an Activity Log and submit as part of the required quarterly progress report. In addition, RMA will use information provided by agreement holders to ensure that funded educational projects are progressing.

Description of Respondents: Not-for-profit institutions; Business or other for-profit; State, local, or tribal government.

Number of Respondents: 55.

Frequency of Responses: Reporting: Quarterly.

Total Burden Hours: 313.

Sondra Blakey,
Departmental Information Collection Clearance Officer.

[FR Doc. 04-18503 Filed 8-12-04; 8:45 am]

BILLING CODE 3410-08-M